DEPARTMENT OF HOMELAND SECURITY

Coast Guard

33 CFR Part 117

[Docket No. USCG-2014-0890]

Drawbridge Operation Regulation; Atlantic Intracoastal Waterway (AICW), Newport River, Morehead City, NC

AGENCY: Coast Guard, DHS.

ACTION: Notice of deviation from drawbridge regulation.

SUMMARY: The Coast Guard has issued a temporary deviation from the operating schedule that governs the Carolina Coastal Railroad Bridge, at AICW mile 203.8, across Newport River in Morehead City, NC. This bridge is presently maintained in the open position except when closure is necessary for train crossings. This deviation allows the bridge to remain closed to navigation from 9 a.m. to noon and again from 1 p.m. to 3 p.m. every day, from November 3 through November 7, 2014, so that necessary maintenance may be made.

DATES: This deviation is effective from 9 a.m., on Monday, November 3, 2014 until 3 p.m., on Friday, November 7, 2014.

ADDRESSES: The docket for this deviation [USCG-2014-0890] is available at http://www.regulations.gov. Type the docket number in the “SEARCH” box and click “SEARCH”. Click on Open Docket Folder on the line associated with this deviation. You may also visit the Docket Management Facility in Room W12-140 on the ground floor of the Department of Transportation West Building, 1200 New Jersey Avenue SE., Washington, DC 20590, between 9 a.m. and 5 p.m., Monday through Friday, except Federal holidays.

FOR FURTHER INFORMATION CONTACT: If you have questions on this temporary deviation, call or email Terrance Knowles, Environmental Protection Specialist, Coast Guard; telephone 757-398-6587, email Terrance.A.Knowles@uscg.mil. If you have questions on viewing the docket, call Cheryl Collins, Program Manager, Docket Operations, at 202-366-9826.

SUPPLEMENTARY INFORMATION: The North Carolina Department of Transportation, who owns and operates this bascule-type railroad drawbridge, has requested a temporary deviation from the current operating regulations to facilitate the maintenance and steel work on the structure. The Carolina Coastal Railroad Bridge, at AICW mile 203.8, across Newport River in Morehead City, NC, has a vertical clearance in the closed to navigation position of 4 feet above mean high water.

The current regulations, under the general requirements set out at 33 CFR 117.5, require that the drawbridge shall open promptly and fully for the passage of vessels when a request to open is given. However, the drawbridge is currently maintained in the open to navigation position at all times and closes for passing trains.

Under this temporary deviation, the bridge will be closed-to-navigation for maintenance and steel work on the structure, from 9 a.m. to noon, and again from 1 p.m. to 3 p.m., every day from November 3 through November 7, 2014. Vessels able to pass through the bridge in the closed position may do so at any time. The bridge will be able to open, from noon to 1 p.m., each day to accommodate vessel traffic during the deviation period. Also, the bridge can be opened for emergencies and there is an alternate route for vessels through Beaufort Channel with no additional travel time.

The Coast Guard will inform the users of the waterway through Local and Broadcast Notice to Mariners of the temporary deviation in operating schedule for the bridge so that vessels can arrange their transit plans accordingly. Vessel traffic along this part of the Atlantic Intracoastal Waterway consists of commercial and pleasure craft including sail boats, fishing boats, and tug and barge traffic, that transit mainly during the daylight hours with the occasional tug and barge traffic at night. Waterway traffic consists of fishing boats, recreational boats, tugs, and barges.

In accordance with 33 CFR 117.35(e), the drawbridge must return to its regular operating schedule immediately at the end of the effective period of this temporary deviation. This deviation from the operating regulations is authorized under 33 CFR 117.35.

Dated: October 6, 2014.
Waverly W. Gregory, Jr.,
Bridge Program Manager, Fifth Coast Guard District.

[FR Doc. 2014-24774 Filed 10-16-14; 8:45 am]

BILLING CODE 9110-04-P